DEPARTMENT OF COMMERCE

International Trade Administration

[A-533-810]

Stainless Steel Bar from India: Extension of Time Limit for the Final Results of the 2008-2009 Antidumping Duty Administrative Review

AGENCY: Import Administration, International Trade Administration, Department of Commerce.

EFFECTIVE DATE: July 16, 2010.

FOR FURTHER INFORMATION CONTACT: Austin Redington or Brandon Farlander, AD/CVD Operations, Office 1, Import Administration, International Trade Administration, U.S. Department of Commerce, 14th Street and Constitution Avenue, NW, Washington, DC 20230; telephone (202) 482-1664 and (202) 482-0182, respectively.

SUPPLEMENTARY INFORMATION:

Background

On February 21, 1995, the Department of Commerce (“Department”) published the antidumping duty order on stainless steel bar (“SSB”) from India. See Antidumping Duty Orders: Stainless Steel Bar from Brazil, India and Japan, 60 FR 9661 (February 21, 1995). On March 24, 2009, in accordance with section 751(a) of the Tariff Act of 1930, as amended (“the Act”), the Department initiated an administrative review of the order for two companies. See Initiation of Antidumping and Countervailing Duty Administrative Reviews, Request for Revocation in Part, and Deferral of Administrative Review, 74 FR 12310 (March 24, 2009). On March 15, 2010, the Department published its preliminary results of the 2008-2009 antidumping duty administrative review. See Stainless Steel Bar from India: Preliminary Results of Antidumping Duty Administrative Review, 75 FR 12199 (March 15, 2010). The final results for this review are currently due no later than July 13, 2010.

Extension of Time Limit of Final Results

Section 751(a)(3)(A) of the Act requires the Department to issue final results within 120 days after the date on which the preliminary results are published. However, if it is not practicable to complete the review within this time period, section 751(a)(3)(A) of the Act allows the Department to extend the time period to a maximum of 180 days.

Completion of the final results of the administrative review within the 120-day period in this case is not practicable because, following the preliminary results, the Department received additional cost information from Venus, as requested by the Department, which required the Department to produce a post-preliminary analysis involving a comprehensive cost analysis, significantly delaying the briefing schedule. See Memorandum from Susan Kuhbach, Senior Office Director to Ronald K Lorentzen, Assistant Secretary, entitled “Post-Preliminary Analysis Calculation Memorandum for Venus Wire Industries Pvt. Ltd.,” dated May 19, 2010. Further, the Department requires additional time to review and address the detail and complexity of the cost accounting issues and arguments brought forward in the case and rebuttal briefs from both Venus Wire Industries Pvt. Ltd. and the domestic interested parties. Thus, we have determined it is not practicable to complete this review within the time specified under the Act, we are extending the time period for issuing the final reand sults of the administrative review by 45 days in accordance with section 751(a)(3)(A) of the Act. Therefore, the final results are now due no later than August 27, 2010.

This notice is published pursuant to sections 751(a) and 777(i) of the Act.

Dated: July 12, 2010.
Edward C. Yang,
Acting Deputy Assistant Secretary for Antidumping and Countervailing Duty Operations.

[FR Doc. 2010-17423 Filed 7-15-10; 8:45 am]

BILLING CODE 3510-DS-S